DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List based on OFAC's determination that one or more applicable legal criteria were satisfied. All property and interests in property subject to U.S. jurisdiction of these persons are blocked, and U.S. persons are generally prohibited from engaging in transactions with them.

DATES: See SUPPLEMENTARY INFORMATION section for effective date(s).

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel.: 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's website (https://www.treasury.gov/ofac).

Notice of OFAC Action(s)

On March 1, 2019, OFAC determined that the property and interests in property subject to U.S. jurisdiction of the following persons are blocked under the relevant sanctions authorities listed below.

Individuals

1. BERMUDEZ VALDERREY, Alberto Mirtiliano (a.k.a. MIRTILIANO BERMUDEZ, Alberto), Anaco, Anzoategui, Venezuela; DOB 17 Feb 1968; Gender Male; Cedula No. 9895508 (Venezuela) (individual) [VENEZUELA].

Designated pursuant to section 1(a)(ii)(C) of Executive Order 13692 of March 8, 2015, “Blocking Property and Suspending Entry of Certain Persons Contributing to the Situation in Venezuela” (E.O. 13692), as amended by Executive Order 13857 of January 25, 2019, “Taking Additional Steps To Address the National Emergency With Respect to Venezuela,” (E.O. 13857) for being a current or former official of the Government of Venezuela.

2. LOPEZ VARGAS, Richard Jesus (a.k.a. LOPEZ VARGAS, Richard), Caracas, Capital District, Venezuela; DOB 24 Nov 1964; Gender Male; Cedula No. 6166221 (Venezuela) (individual) [VENEZUELA].

Designated pursuant to section 1(a)(ii)(C) of E.O. 13692, as amended by E.O. 13857, for being a current or former official of the Government of Venezuela.

3. MANTILLA OLIVEROS, Jesus Maria (a.k.a. MONTILLA OLIVEROS, Jesus Maria), Bolivar State, Venezuela; DOB 03 Sep 1963; Gender Male; Cedula No. 9215693 (Venezuela) (individual) [VENEZUELA].

Designated pursuant to section 1(a)(ii)(C) of E.O. 13692, as amended by E.O. 13857, for being a current or former official of the Government of Venezuela.

4. NORONO TORRES, Jose Leonardo, San Cristobal, Tachira, Venezuela; DOB 16 Sep 1969; Gender Male; Cedula No. 9931609 (Venezuela) (individual) [VENEZUELA].

5. DOMINGUEZ RAMIREZ, Jose Miguel (a.k.a. DOMINGUEZ, Miguel), Caracas, Venezuela; DOB 17 Oct 1979; Gender Male; Cedula No. 14444352 (Venezuela) (individual) [VENEZUELA].

Designated pursuant to section 1(a)(ii)(C) of E.O. 13692, as amended by E.O. 13857, for being a current or former official of the Government of Venezuela.

6. MORALES ZAMBRANO, Cristhiam Abelardo (a.k.a. MORALES ZAMBRANO, Christian; a.k.a. MORALES ZAMBRANO, Cristhian), Tachira, Venezuela; DOB 09 Mar 1970; Gender Male; Cedula No. 9656561 (Venezuela) (individual) [VENEZUELA].

Designated pursuant to section 1(a)(ii)(C) of E.O. 13692, as amended by E.O. 13857, for being a current or former official of the Government of Venezuela.

Dated: March 18, 2019.
Andrea Gacki,
Director, Office of Foreign Assets Control.

[FR Doc. 2019-05471 Filed 3-21-19; 8:45 am]

BILLING CODE 4810-AL-P